DEPARTMENT OF LABOR

Bureau of Labor Statistics

Data Users Advisory Committee; Notice of Meeting and Agenda

The Bureau of Labor Statistics Data Users Advisory Committee will meet on Thursday, May 19, 2022. This meeting will be held virtually.

The Committee provides advice to the Bureau of Labor Statistics from the points of view of data users from various sectors of the U.S. economy, including the labor, business, research, academic, and government communities. The Committee advises on technical matters related to the collection, analysis, dissemination, and use of the Bureau's statistics, on its published reports, and on the broader aspects of its overall mission and function.

The agenda for the meeting is as follows:

12:00 p.m. Commissioner's welcome and review of agency developments

12:30 p.m. Proposed changes to the Census of Fatal Occupational Injuries variables and outputs

1:30 p.m. Break

1:45 p.m. Revised item structure for the Consumer Price Index

2:45 p.m. Business Response Survey

3:45 p.m. Discussion of future topics and concluding remarks

4:00 p.m. Conclusion

The meeting is open to the public. Anyone planning to attend the meeting should contact Lisa Fieldhouse, Data Users Advisory Committee, at fieldhouse.lisa@bls.gov. Any questions about the meeting should be addressed to Ms. Fieldhouse. Individuals who require special accommodations should contact Ms. Fieldhouse at least two days prior to the meeting date.

Signed at Washington, DC, this 21st day of April 2022.
Eric Molina,
Acting Chief, Division of Management Systems, Bureau of Labor Statistics.

[FR Doc. 2022-09022 Filed 4-26-22; 8:45 am]

BILLING CODE 4510-24-P